DEPARTMENT OF THE INTERIOR

Bureau of Indian Affairs

[156A2100DD/AAKC001030/A0A501010.999900 253G]

Renewal of Agency Information Collection for Reindeer in Alaska

AGENCY: Bureau of Indian Affairs, Interior.

ACTION: Notice of request for comments.

SUMMARY: In compliance with the Paperwork Reduction Act of 1995, the Bureau of Indian Affairs (BIA) is seeking comments on the renewal of Office of Management and Budget (OMB) approval for the collection of information titled “Reindeer in Alaska,” authorized by OMB Control Number 1076-0047. This information collection expires September 30, 2015.

DATES: Submit comments on or before August 31, 2015.

ADDRESSES: You may submit comments on the information collection to David Edington, Bureau of Indian Affairs, Office of Trust Services, 1849 C Street NW., MS-4637-MIB, Washington, DC 20240; email: David.Edington@bia.gov.

FOR FURTHER INFORMATION CONTACT: David Edington, phone: (202) 513-0886.

SUPPLEMENTARY INFORMATION:

I. Abstract

The Bureau of Indian Affairs (BIA) is seeking renewal of the approval for the information collection conducted under 25 CFR part 243, Reindeer in Alaska, which is used to monitor and regulate the possession and use of Alaskan reindeer by non-Natives in Alaska. The information to be provided includes an applicant's name and address, and where an applicant will keep the reindeer. The applicant must fill out an application for a permit to get a reindeer for any purpose, and is required to report on the status of reindeer annually or when a change occurs, including changes prior to the date of the annual report. This information collection utilizes four forms. This renewal request does not include any changes to the burden hours.

II. Request for Comments

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personally identifiable information in your comment, you should be aware that your entire comment—including your personal identifying information—may be made publicly available at any time. While you can ask us in your comment to withhold your personal identifying information from public review, we cannot guarantee that we will be able to do so.

III. Data

OMB Control Number: 1076-0047.

Title: Reindeer in Alaska, 25 CFR 243.

Brief Description of Collection: There are four forms associated with this information collection: Sale Permit for Alaska Reindeer, Sale Report for Alaska Reindeer, Special Use Permit for Alaska Reindeer, and Special Use Reindeer Report. Responses are required to obtain or retain a benefit.

Type of Review: Extension without change of currently approved collection.

Respondents: Non-Natives who wish to possess Alaskan reindeer.

Number of Respondents: 18 per year, on average (8 respondents for the Sale Permit for Alaska Reindeer, 8 respondents for the Sale Report Form for Alaska Reindeer, 1 respondent for the Special Use Permit for Alaskan Reindeer, and 1 respondent for the Special Use Reindeer Report).

Frequency of Response: Once a year, on average.

Estimated Time per Response: 5 minutes for the Sale Permit and Report forms; and 10 minutes for the Special Use Permit and Report forms, on average.

Estimated Total Annual Hour Burden: 2 hours.

Estimated Total Annual Non-Hour Dollar Cost: $10.00.

Elizabeth K. Appel,
Director, Office of Regulatory Affairs and Collaborative Action—Indian Affairs.

[FR Doc. 2015-16010 Filed 6-29-15; 8:45 am]

BILLING CODE 4337-15-P